DEPARTMENT OF THE INTERIOR

Bureau of Land Management

[(LLMT926000/L19100000.BJ0000); 16XL1109AF; MO#4500087624]

Notice of Filing of Plats of Survey; South Dakota

AGENCY: Bureau of Land Management, Interior.

ACTION: Notice of filing of plats of survey.

SUMMARY: The Bureau of Land Management (BLM) will file the plat of survey of the lands described below in the BLM Montana State Office, Billings, Montana, on January 4, 2016.

DATES: Protests of the survey must be filed before January 4, 2016 to be considered.

ADDRESSES: Protests of the survey should be sent to the Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5003, HMontoya@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the National Park Service, Midwest Regional Office, Omaha Nebraska, and was necessary to determine boundaries of Federal lands.

The lands we surveyed are:

Black Hills Meridian, South Dakota

T. 6 S., R. 6 E.

The plat, in two sheets, representing the dependent resurvey of a portion of the north boundary, a portion of the subdivisional lines and the subdivision of sections 4, 9, and 20, and the survey of a portion of the centerline of Custer County Road No. 101, in section 20, Township 6 South, Range 6 East, of the Black Hills Meridian, South Dakota, was accepted October 21, 2015.

We will place a copy of the plat, in two sheets, and related field notes we described in the open files. They will be available to the public as a matter of information. If the BLM receives a protest against this survey, as shown on this plat, in two sheets, prior to the date of the official filing, we will stay the filing pending our consideration of the protest. We will not officially file this plat, in two sheets, until the day after we have accepted or dismissed all protests and they have become final, including decisions or appeals.

Authority: 43 U.S.C. Chap. 3.

Joshua F. Alexander,
Acting Chief, Branch of Cadastral Survey, Division of Energy, Minerals and Realty.

[FR Doc. 2015-30683 Filed 12-3-15; 8:45 am]

BILLING CODE 4310-DN-P